DEPARTMENT OF COMMERCE

Office of the Secretary

Proposed Information Collection; Comment Request; Postsecondary Internship Program Intern Evaluation Survey

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before February 10, 2003.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to Carin Otero, Postsecondary Internship Program Officer, Room 6022, 1401 Constitution Avenue, NW., Washington, DC 20230, (202) 482-1445. In addition, written comments may be sent via the Internet at COtero1@doc.gov.

SUPPLEMENTARY INFORMATION:

I. Abstract

The Office of Executive Assistance Management (OEBAM) manages the U.S. Department of Commerce (DOC) Postsecondary Internship Program. The program is competitively awarded and funded by cooperative agreements with the purpose of providing experiential training opportunities for postsecondary students at DOC and other Federal agencies. The program is administered through a partnership between DOC and non-profit and/or educational institutions. This information collection would allow DOC management to evaluate and analyze the performance of the Postsecondary Internship Program and our diversity efforts to reach out to under-represented ethnic and racial communities. The information will be used for program management, strategic planning, allocation of resources and performance measures. The survey is part of DOC's efforts to implement objectives of the National Performance Review, Government Performance and Results Act and the President's Management Agenda.

II. Method of collection

The survey is conducted in paper form.

III. Data

OMB Number: 0690-0021.

Form Numbers: CD 577.

Type of Review: Regular submission.

Affected Public: Individuals or households.

Estimated Number of Respondents: 110.

Estimated Time Per Response: 30 minutes.

Estimated Total Annual Respondent Burden Hours: 55.

Estimated Total Annual Cost to the Public: None.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: December 6, 2002.
Gwellnar Banks,
Management Analyst, Office of the Chief Information Officer.

[FR Doc. 02-31263 Filed 12-11-02; 8:45 am]

BILLING CODE 3510-BV-P